DEPARTMENT OF COMMERCE

Foreign-Trade Zones Board

[B-22-2016]

Foreign-Trade Zone 291—Cameron Parish, Louisiana; Application for Subzone; G2 LNG LLC; Cameron, Louisiana

An application has been submitted to the Foreign-Trade Zones (FTZ) Board by the West Cameron Port Commission, grantee of FTZ 291, requesting subzone status for the facility of G2 LNG LLC located in Cameron, Louisiana. The application was submitted pursuant to the provisions of the Foreign-Trade Zones Act, as amended (19 U.S.C. 81a-81u), and the regulations of the FTZ Board (15 CFR part 400). It was formally docketed on April 20, 2016.

The proposed subzone (766 acres) is located at 110 Gulf Beach Highway in Cameron, Louisiana. No authorization for production activity has been requested at this time.

In accordance with the FTZ Board's regulations, Camille Evans of the FTZ Staff is designated examiner to review the application and make recommendations to the FTZ Board.

Public comment is invited from interested parties. Submissions shall be addressed to the FTZ Board's Executive Secretary at the address below. The closing period for their receipt is June 6, 2016. Rebuttal comments in response to material submitted during the foregoing period may be submitted during the subsequent 15-day period to June 20, 2016.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Camille Evans at Camille.Evans@trade.gov or (202) 482-2350.

Dated: April 20, 2016.
Andrew McGilvray,
Executive Secretary.

[FR Doc. 2016-09704 Filed 4-25-16; 8:45 am]

BILLING CODE 3510-DS-P